DEPARTMENT OF COMMERCE

Patent and Trademark Office

International Work Sharing

ACTION: Proposed collection; comment request.

SUMMARY: The United States Patent and Trademark Office (USPTO), as required by the Paperwork Reduction Act of 1995, invites comments on a proposed extension of an existing information collection: 0651-0079 (International Work Sharing).

DATES: Written comments must be submitted on or before November 27, 2018.

ADDRESSES: You may submit comments by any of the following methods:

• Email: InformationCollection@uspto.gov. Include “0651-0079 comment” in the subject line of the message.

• Federal Rulemaking Portal: http://www.regulations.gov.

• Mail: Marcie Lovett, Records and Information Governance Division Director, Office of the Chief Technology Officer, United States Patent and Trademark Office, P.O. Box 1450, Alexandria, VA 22313-1450.

FOR FURTHER INFORMATION CONTACT: Request for additional information should be directed to Daniel Hunter, Program Manager, United States Patent and Trademark office, P.O. Box 1450, Alexandria, VA 22313-1450; by telephone at 571-272-8050; or by email at Daniel.Hunter@uspto.gov with “0651-0079 comment” in the subject line. Additional information about this information about this collection is also available at http://www.reginfo.gov under “Information Collection Review.”

SUPPLEMENTARY INFORMATION:

I. Abstract

The United States Patent and Trademark Office (USPTO) established a Work Sharing Pilot Program in conjunction with the Japan Patent Office (JPO) and the Korean Intellectual Property Office (KIPO) to study how the exchange of search results between offices for corresponding counterpart applications improves patent quality and facilitates the examination of patent applications in both offices. Under this Work Sharing Pilot Program, two Collaborative Search Pilot (CSP) programs—USPTO-JPO and USPTO-KIPO—have been implemented. Through their respective CSP(s), each office concurrently conducts searches on corresponding counterpart applications. Each office's search results are exchanged following these concurrent searches, which provides examiners with a comprehensive set of art before them at the commencement of examination.

Work sharing between Intellectual Property (IP) offices is critical for increasing the efficiency and quality of patent examination worldwide. The exchange of information and documents between IP offices also benefits applicants by promoting compact prosecution, reducing pendency, and supporting patent quality by reducing the likelihood of inconsistencies in patentability determinations among IP offices when considering corresponding counterpart applications. The gains in efficiency and quality are achieved through a collaborative work sharing approach to the evaluation of patent claims. As a result of this exchange of search reports, the examiners in both offices may have a more comprehensive set of references before them when making an initial patentability determination.

II. Method of Collection

The forms associated with this collection may be downloaded from the USPTO website in Portable Document Format (PDF) and filled out electronically. Requests to participate in the International Work Sharing Program must be submitted online using EFS-Web, the USPTO's web-based electronic filing system.

III. Data

OMB Number: 0651-0079.

IC Instruments and Forms: PTO/SB/437, PTO/SB/CSP Survey 1.

Type of Review: Revision of an Existing Information Collection.

Affected Public: Individuals or households; businesses or other for-profits; and not-for-profit institution.

Estimated Number of Respondents: 300 responses per year. The USPTO estimates that 100 percent of the annual responses for this collection will be submitted electronically via EFS-Web, which customers may access through the USPTO website.

Estimated Time per Response: The USPTO estimates that it will take the public approximately between 5 minutes (0.08 hours) and 3 hours to complete the information in this collection, including the time to gather the necessary information, prepare the forms or documents, and submit the completed request to the USPTO.

Estimated Total Annual Respondent Burden Hours: 462 hours.

Estimated Total Annual Respondent (Hourly) Cost Burden: $202,356. The USPTO expects that that an attorney will complete the information in this collection. The professional hourly rate for intellectual property attorneys in private firms is $438. Using this hourly rate, the USPTO estimates that the total respondent cost burden for this collection is $202,356.00 per year.

No. | Item | Estimated time for response | Estimated annual response | Estimated annual burden hours | Rate | Estimated annual total cost
|  | (a) | (b) | (a) × (b) = (c) | (d) | (c) × (d) = (e)
1 | Petition for Participation in the Collaborative Search Pilot (CSP) Program Between the Japan Patent Office (JPO) and the USPTO | 3 | 50 | 150 | $438.00 | $65,700.00
2 | Petition for Participation in the Collaborative Search Pilot (CSP) Program Between the Korean Intellectual Property Office (KPO) and the USPTO | 3 | 100 | 300 | 438.00 | 131,400.00
3 | CSP Survey | * 0.08 | 150 | 12 | 438.00 | 5,256.00
Total |  |  | 300 | 462 |  | 202,356.00
* 5 minutes.

Estimated Total Annual (Non-hour) Respondent Cost Burden: $0. There are no estimated filing fees or postage costs for this collection.

IV. Request for Comments

Comments submitted in response to this notice will be summarized or included in the request for OMB approval of this information collection. They also will become a matter of public record.

Comments are invited on:

(a) Whether the proposed collection of information is necessary for the proper performance of the functions of the agency, including whether the information shall have practical utility;

(b) The accuracy of the agency's estimate of the burden (including hours and cost) of the proposed collection of information;

(c) Ways to enhance the quality, utility, and clarity of the information to be collected; and

(d) Ways to minimize the burden of the collection of information on respondents, e.g., the use of automated collection techniques or other forms of information technology.

Marcie Lovett,
Records and Information Governance Division Director, OCTO, United States Patent and Trademark Office.

[FR Doc. 2018-21215 Filed 9-27-18; 8:45 am]

BILLING CODE 3510-16-P